ENVIRONMENTAL PROTECTION AGENCY

[ER-FRL-6636-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-F65033-IL Rating EC2, Kudzu Eradication, Proposal to Eradicate Known Kudzu Infestations in the Shawne National Forest, Application for Herbicide and Mechanical Treatment, Jackson, Alexander and Pope Counties, IL.

Summary: EPA expressed environmental concerns that the draft EIS did not include pesticide risk mitigation measures, especially for triclopyr. These should be included in the final EIS.

ERP No. D-COE-E39060-GA Rating LO, Lake Sidney Lanier Project to Continue the Ongoing Operation and Maintenance Activities Necessary for Flood Control, Hydropower Generation, Water Supply, Recreation, Natural Resources Management and Shoreline Management, US Army COE Section 10 and 404 Permits, Dawson, Forsyth, Lumpkin, Hill and Gwinnett Counties, GA.

Summary: EPA has no significant objections to the various management/operational changes being proposed.

ERP No. D-COE-G32056-LA Rating LO, Bayou Sorrel Lock Replacement (formerly IWW Locks) Feasibility Study to Relieve Navigation Delays and/or Provide Adequate Flood Protection, Atchafalaya Basin Floodway, Iberville Parish, LA.

Summary: EPA expressed a lack of objections to the preferred alternative.

ERP No. D-FHW-H40176-00 Rating LO, US-81 Highway, Yankton Bridge Replacement, Missouri River Crossing between the City of Yankton, Yankton County, South Dakota and Cedar County, Nebraska, Funding and Permit Issuance, SD and NB.

Summary: EPA expressed a lack of objections to the project as proposed but offered clarification on disposal requirements for lead-based coatings if removed during the demolition phase.

ERP No. D-FTA-K54028-CA Rating LO, Transbay Terminal/Caltrain Development Downtown Extension/Redevelopment Project, New Multi-Modal Terminal Construction, Peninsula Corridor Service Extension and Establishment of a Redevelopment Plan, Funding, San Francisco, San Mateo and Santa Clara Counties, CA.

Summary: EPA found that the document adequately discussed the environmental impacts of the proposed project.

ERP No. DS-FHW-L50009-WA Rating LO, Elliott Bridge No. 3166 Replacement, Updated and Reevaluated Information, Proposal to Replace the 149th Avenue SE Crossing the Cedar River, Funding, U.S. CGD Bridge Permit and U.S. Army COE Section 404 Permit Issuance, City of Renton, King County, WA.

Summary: EPA has no objections to the project as proposed but recommends that the Final SEIS contain a Purpose and Need statement and improve discussion on how the proposed alternative will address old footing foundations.

Final EISs

ERP No. F-AFS-H65012-MO

Rams Horn Project to Accomplish the Direction and Desired Conditions Identified in the Mark Twain National Forest, Land and Resource Management Plan, Houston/Rolla/Creek Ranger District, Phelps and Pulaski Counties, MO.

Summary: EPA has a lack of objections to the proposed project. Issues identified by EPA in the Draft EIS have been adequately addressed.

ERP No. F-COE-C35014-NJ

Meadowlands Mills Project, Construction of a Mixed-Use Commercial Development, Permit Application Number 95-07-440-RS, U.S. Army COE Section 10 and 404 Permit Issuance, Boroughs of Carlstadt and Monnachie, Township of South Hackensack, Bergen County, NJ.

Summary: EPA continued to raise environmental objections to the project and the alternatives, citing that there were offsite alternatives available that needed to be examined.

ERP No. F-COE-E35021-FL

Miami River Dredged Material Management Plan, River Sediments Dredging and Disposal Maintenance Dredging, Biscayne Bay, City of Miami, Miami-Dade County, FL.

Summary: EPA continues to have environmental concerns about the project's potential impacts.

ERP No. F-COE-G35020-TX

Texas City's Proposed Shoal Point Container Terminal Project, Containerized Cargo Gateway Development, U.S. Army COE Section 404 and 10 Permits Issuance, Material Placement Area (DMPA), City of Texas, Galveston County, TX.

Summary: EPA has no objections to the selection of the preferred alternative.

ERP No. F-FRC-L05226-ID

C.J. Strike Hydroelectric Project (FERC NO. 2055), New License Issuance, Snake and Bruneau Rivers, Owyhee and Elmore Counties, ID.

Summary: EPA continues to have environmental objections with the No Action Alternative, the Idaho Power Proposal and the Idaho Power Proposal with Modifications Alternative as they would not result in appreciable improvements to instream and riparian conditions. EPA believes that the Run-of-River Alternative provides the only strategy for improving aquatic and riparian conditions. EPA also raised concerns with the lack of an identified agency-preferred alternative in the EIS.

ERP No. FS-AFS-F05123-00

Bond Falls Hydroelectric Project related to Terms and Conditions for Geology and Soils, Water Quality and Quantity, Fisheries, Terrestrial, Recreation, Aesthetic, Cultural, Socioeconomic and Land Use Resources, Ontonagon River Basin, Valas County, WI and Ontonagon and Gogebic Counties, MI.

Summary: EPA believes the specified terms and conditions will adequately protect the natural resources in the project area for this relicensing project on the Ottawa National Forest.

Dated: December 30, 2002.
Joseph C. Montgomery,
Director, NEPA Compliance Division, Office of Federal Activities.

[FR Doc. 03-109 Filed 1-2-03; 8:45 am]

BILLING CODE 6560-50-P